DEPARTMENT OF COMMERCE

International Trade Administration

[A-274-804]

Carbon and Certain Alloy Steel Wire Rod from Trinidad and Tobago: Extension of Time Limit for the Preliminary Results of Antidumping Duty Administrative Review

AGENCY: Import Administration, International Trade Administration, Department of Commerce.

EFFECTIVE DATE: May 7, 2009.

FOR FURTHER INFORMATION CONTACT: Dennis McClure or Jolanta Lawska, Office 3, Import Administration, International Trade Administration, U.S. Department of Commerce, 14th Street and Constitution Ave., NW, Washington, DC 20230; telephone: (202) 482-5973 and (202) 482-8362, respectively.

SUPPLEMENTARY INFORMATION:

Background

On November 24, 2008, the U.S. Department of Commerce (“the Department”) published a notice of initiation of the administrative review of the antidumping duty order on carbon and certain alloy steel wire rod from Trinidad and Tobago, covering the period October 1, 2007, to September 30, 2008. See Initiation of Antidumping and Countervailing Duty Administrative Reviews, 73 FR 70964 (November 24, 2008). The preliminary results of this review are currently due no later than July 3, 2009.

Extension of Time Limit of Preliminary Results

Section 751(a)(3)(A) of the Tariff Act of 1930, as amended (“the Act”), requires the Department to make a preliminary determination in an administrative review within 245 days after the last day of the anniversary month of an order or finding for which a review is requested. Consistent with section 751(a)(3)(A) of the Act, the Department may extend the 245-day period to 365 days if it is not practicable to complete the review within a 245-day period.

We determine that completion of the preliminary results of this review within the 245-day period is not practicable. Specifically, we require additional time to thoroughly consider the responses to the supplemental questionnaires the Department has sent to the respondent.

Therefore, we are extending the time period for issuing the preliminary results of review by 120 days, in accordance with section 751(a)(3)(A) of the Act and 19 CFR § 351.213(h)(2) of the Department's regulations. Since a 120-day extension would result in the deadline for the preliminary results falling on October 31, 2009, which is a Saturday, the new deadline for the preliminary results will be the next business day, November 2, 2009. See Notice of Clarification: Application of “Next Business Day” Rule for Administrative Determination Deadlines Pursuant to the Tariff Act of 1930, as Amended, 70 FR 24533 (May 10, 2005). Therefore, the preliminary results are now due no later than November 2, 2009. The final results continue to be due 120 days after publication of the preliminary results.

This notice is published in accordance with sections 751(a)(3)(A) and 777(i) of the Act.

Dated: May 1, 2009.
John M. Andersen,
Acting Deputy Assistant Secretary for Antidumping and Countervailing Duty Operations.

[FR Doc. E9-10629 Filed 5-6-09; 8:45 am]

BILLING CODE 3510-DS-S